FEDERAL ELECTION COMMISSION

Sunshine Act Meetings

Federal Register CITATION NOTICE OF PREVIOUS ANNOUNCEMENT:

88 FR 16446.

PREVIOUSLY ANNOUNCED TIME AND DATE OF THE MEETING: Tuesday, March 28, 2023 at 10:30 a.m. and its continuation at the conclusion of the open meeting on March 30, 2023.

CHANGES IN THE MEETING: This meeting will also be held on Friday, March 31, 2023 at 11:30 a.m.

* * * * *

CONTACT FOR MORE INFORMATION: Judith Ingram, Press Officer, Telephone: (202) 694-1220.

(Authority: Government in the Sunshine Act, 5 U.S.C. 552b.)

Vicktoria J. Allen,
Deputy Secretary of the Commission.

[FR Doc. 2023-06403 Filed 3-23-23; 4:15 pm]

BILLING CODE 6715-01-P